DEPARTMENT OF COMMERCE

International Trade Administration

[C-533-864, C-475-833, C-570-027, C-580-879, C-583-857]

Countervailing Duty Investigations of Certain Corrosion-Resistant Steel Products From India, Italy, the People's Republic of China, the Republic of Korea, and Taiwan: Postponement of Preliminary Determinations

AGENCY: Enforcement and Compliance, International Trade Administration, Department of Commerce.

FOR FURTHER INFORMATION CONTACT: Matt Renkey or Jerry Huang at (202) 482-2312 and (202) 482- 4047, respectively (India); Robert Palmer at (202) 482-9068 (Italy); Myrna Lobo at (202) 482-2371 (the People's Republic of China, and the Republic of Korea); Kristen Johnson at (202) 482-4793 (Taiwan), AD/CVD Operations, Enforcement and Compliance, International Trade Administration, U.S. Department of Commerce, 14th Street and Constitution Avenue NW., Washington, DC 20230.

SUPPLEMENTARY INFORMATION:

Background

On June 23, 2015, the Department of Commerce (Department) initiated the countervailing duty investigations of certain corrosion-resistant steel products from India, Italy, the People's Republic of China, the Republic of Korea, and Taiwan.¹ Currently, the preliminary determinations are due no later than August 27, 2015.

¹ See Certain Corrosion-Resistant Steel Products from the People's Republic of China, India, Italy, the Republic of Korea, and Taiwan: Initiation of Countervailing Duty Investigations, 80 FR 37223 (June 30, 2015) (Initiation Notice).

Postponement of Due Date for the Preliminary Determinations

Section 703(b)(1) of the Tariff Act of 1930, as amended (Act), requires the Department to issue the preliminary determination in a countervailing duty investigation within 65 days after the date on which the Department initiated the investigation. However, section 703(c)(1) of the Act permits the Department to postpone making the preliminary determination until no later than 130 days after the date on which it initiated the investigation if, among other reasons, the petitioner makes a timely request for a postponement, or the Department concludes that the parties concerned are cooperating and determines that the investigation is extraordinarily complicated. On August 3, 2015, United States Steel Corporation; Nucor Corporation; Steel Dynamics, Inc.; ArcelorMittal USA, LLC; AK Steel Corp.; and California Steel Industries (collectively, Petitioners) made a timely request to postpone the preliminary countervailing duty determinations.² Therefore, pursuant to the discretion afforded the Department under 703(c)(1)(A) of the Act and because the Department does not find any compelling reason to deny the request, we are fully extending the due date until 130 days after the Department's initiation for the preliminary determinations. The deadline for the completion of the preliminary determinations is now November 2, 2015.³

² See Petitioners' August 3, 2015 letter requesting postponement of the preliminary determination.

³ The due date actually falls on October 31, 2015, which is a Saturday. Therefore, the deadline moves to the next business day, November 2, 2015. See Notice of Clarification: Application of “Next Business Day” Rule for Administrative Determination Deadlines Pursuant to the Tariff Act of 1930, As Amended, 70 FR 24533 (May 10, 2008).

This notice is issued and published pursuant to section 703(c)(2) of the Act and 19 CFR 351.205(f)(1).

Dated: August 6, 2015.
Ronald K. Lorentzen,
Acting Assistant Secretary for Enforcement and Compliance.

[FR Doc. 2015-19994 Filed 8-12-15; 8:45 am]

BILLING CODE 3510-DS-P